DEPARTMENT OF THE INTERIOR

National Park Service

[NPS-WASO-WI-00058; PPMPSAS1Y.Y0000; PPWOWMADY0]

Designation of Insignia for the National Park Service, Youth and Young Adult Programs

AGENCY: National Park Service, Interior.

ACTION: Notice of designation.

SUMMARY: This notice serves as official designation of the insignia for the National Park Service, Youth and Young Adult programs. This publication accomplishes the official designation of the insignia now in use by the National Park Service.

FOR FURTHER INFORMATION CONTACT: Jamie Crispin, Youth Programs Division, Workforce and Inclusion Directorate; 1849 C Street NW, Mail Stop: 2353, Washington, DC 20240, Email: Jamie_crispin@nps.gov, Work Cell: 913-727-0766.

SUPPLEMENTARY INFORMATION: For more than five decades, the National Park Service (NPS) has recognized the significance of Youth and Young Adult Programs. These programs encompass a wide range of goals and objectives, both within individual parks and on a broader scale through partnerships with non-profit organizations, businesses, corporations, and various government agencies. The primary focus of these programs is to engage kids, teenagers, young adults up to the age of 30, as well as military veterans 35 years old and younger.

The insignia depicted below has been designated as the official uniform patch and logo for the Youth and Young Adult program. Commencing from September 2024 the National Park Service aims to implement the new insignia. The Director of the National Park Service holds authority over the usage of the insignia.

In making this prescription, notice is hereby given that whoever manufactures, sells, or possesses this insignia, or any colorable imitation thereof, or photographs or prints or in any other manner makes or executes any engraving, photograph or print, or impression in the likeness of this insignia, or any colorable imitation thereof, without written authorization from the United States Department of the Interior is subject to the penalty provisions of 18 U.S.C. 701.

Authority: Protection of Official Badges, Insignia, etc., 18 U.S.C. 701.

Jamie Crispin,
Youth Program Manager, Youth Programs Division, Workforce and Inclusion Directorate.

[FR Doc. 2024-22360 Filed 9-27-24; 8:45 am]

BILLING CODE 4312-52-P